DEPARTMENT OF HEALTH AND HUMAN SERVICES

Centers for Disease Control and Prevention

[60Day-00-47]

Proposed Data Collections Submitted for Public Comment and Recommendations

In compliance with the requirement of Section 3506 (c)(2)(A) of the Paperwork Reduction Act of 1995, the Centers for Disease Control and Prevention is providing opportunity for public comment on proposed data collection projects. To request more information on the proposed projects or to obtain a copy of the data collection plans and instruments, call the CDC Reports Clearance Office at (404) 639-7090.

Comments are invited on: (a) Whether the proposed collection of information is necessary for the proper performance of the functions of the agency, including whether the information shall have practical utility; (b) the accuracy of the agency's estimate of the burden of the proposed collection of information; (c) ways to enhance the quality utility, and clarity of the information to be collected; and (d) ways to minimize the burden of the collection of information on respondents, including through the use of automated collection techniques or other forms of information technology. Send comments to Anne O'Connor, CDC Reports Clearance Officer, 1600 Clifton Road, MS-D24, Atlanta, GA 30333. Written comments should be received within 60 days of this notice.

Proposed Project

National Survey of STD Services Provided to U.S. College Students

—New—The National Center for HIV, STD, and TB Prevention (NCHSTP) proposes clearance to conduct a survey of a sample of U.S. colleges asking about health services available to students with focus on sexually transmitted disease (STD) testing and management. The sample shall include a broad range of colleges including 2 and 4 year, public and private, and rural and urban colleges to determine under what conditions, for which STDs, and how colleges educate about STDs, conduct testing and provide partner management.

STDs have a large economic and health impact throughout the United States. Most college students are within the age range with the highest rates for STDs (15-24 year olds). Chlamydia trachomatis is the most frequently reported infectious disease in the United States with prevalence rates of 4% to 18% in 16-24 year old women. Infections with Chlamydia trachomatis can result in pelvic inflammatory disease and infertility. Many STDs increase the risk of HIV transmission and acquisition. Genital infections with herpes simplex virus, human papillomavirus, and Trichomonas vaginalis have been reported at increasing rates over the last 10 years.

This national survey will provide data that will broaden the scientific knowledge related to STD services and management available to students at U.S. colleges. The survey is intended to (a) describe health insurance policies of colleges; (b) describe preventive services such as health education and condom availability at colleges; (c) identify characteristics of student health centers including staffing, type of care, and number of students seen; (d) identify possible obstacles to accessing STD services; (e) describe which STDs are being tested for and what testing criteria are applied; and (f) describe current partner services including partner notification practices and use of partner-delivered therapy.

The CDC estimates that 900 respondents will complete and submit the survey questionnaire on one single occasion. The questionnaire is estimated to take approximately 30 minutes to complete.

Therefore, the total response burden is estimated at 450 hours for an average cost to the respondents of $14,503.*

Respondents | Number of respondents | Number of response per respondent | Average burden per response (in hours) | Total burden (in hours)
ACHA Member of Health Center Contact or Chief Executive Administrator | 900 | 1 | 5 | 450
Average income combined per hour = $32.23 x 450 hours = $14,503 Health Service Managers—$44,700 yearly average—$21.49 per hour. (US Department of Labor, Bureau of Labor Statistics)
Chief Administrative Officer, Academe—$89, 376 yearly average—$$42.97 per hour. (Wall Street Journal Careernet)

Dated: August 23, 2000.
Nancy Cheal,
Acting Associate Director for Policy Planning, and Evaluation Centers for Disease Control and Prevention (CDC).

[FR Doc. 00-21992 Filed 8-28-00; 8:45 am]

BILLING CODE 4163-18-P